ENVIRONMENTAL PROTECTION AGENCY

Regional Docket No. II-2015-3

[FRL-9994-64-Region 2]

Clean Air Act Operating Permit Program; Petitions on State Operating Permits for Algonquin Gas Transmission LLC

AGENCY: Environmental Protection Agency (EPA).

ACTION: Notice of final Order on Petitions on Clean Air Act title V operating permits.

SUMMARY: The Environmental Protection Agency (EPA) Administrator signed an Order dated April 30, 2019, responding to eight petitions and two other submittals related to two Clean Air Act (CAA) title V operating permits issued by the New York State Department of Environmental Conservation (NYSDEC) to Algonquin Gas Transmission LLC for two of its facilities, namely the Southeast Compressor Station located in Putnam County, New York, Operating Permit NO. 3-3730-00060/00013 and the Stony Point Compressor Station located in Rockland County, New York, Operating Permit NO. 3-3928-00001/00027.

ADDRESSES: The EPA requests that you contact the individual listed in the FOR FURTHER INFORMATION CONTACT section to view copies of the final Order, the Petitions, and other supporting information. You may review copies of the final Order, the Petitions, and other supporting information at the EPA Region 2 Office, 290 Broadway, 25th Floor, New York, New York 10007-1866. You may view the hard copies Monday through Friday, from 9:00 a.m. to 3:00 p.m., excluding federal holidays. If you wish to examine these documents, you should make an appointment at least 24 hours before the visiting day. Additionally, the final Order and Petitions are available electronically at: https://www.epa.gov/title-v-operating-permits/title-v-petition-database.

FOR FURTHER INFORMATION CONTACT: Suilin Chan, EPA Region 2, 212-637-4019, Chan.Suilin@epa.gov.

SUPPLEMENTARY INFORMATION: The CAA affords the EPA a 45-day period to review and object to, as appropriate, operating permits proposed by state permitting authorities under title V of the CAA. Section 505(b)(2) of the CAA authorizes any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or unless the grounds for the issues arose after this period.

The EPA received eight petitions from: (1) The Westchester County Board of Legislators, dated September 4, 2015; (2) Grassroots Environmental Education, dated September 4, 2015; (3) Suzannah Glidden, dated September 4, 2015; (4) Berty Barranco-Feero, dated September 4, 2015; (5) Paola Dalle Carbonare, dated September 4, 2015; (6) Lorenzo Auslander, dated September 4, 2015; (7) Simone Auslander, dated September 4, 2015; and (8) Cari Gardner, dated September 3, 2015. EPA also received an email message from Paula Clair dated September 3, 2015 and a letter from Susan Van Dolsen dated September 3, 2015 relating to the Permits. The Clair and Van Dolsen Submittals do not appear to be petitions submitted under CAA § 505(b)(2) asking EPA to object to the Permits. Nonetheless, without waiving any claim that the Clair and Van Dolsen Submittals were not properly filed, EPA responded to those Submittals, in connection with its response to the eight Petitions, as if the Clair and Van Dolsen Submittals were petitions to object under CAA § 505(b)(2).

On April 30, 2019, the EPA Administrator issued an Order denying the ten submittals, to the extent that these submittals are or could be considered petitions requesting an EPA objection. The Order explains the basis for the EPA's decision.

Sections 307(b) and 505(b)(2) of the CAA provide that a petitioner may request judicial review of those portions of an order that deny issues in a title V petition. Any petition for review shall be filed in the United States Court of Appeals for the appropriate circuit no later than August 6, 2019.

Dated: May 15, 2019.
Peter Lopez,
Regional Administrator, Region 2.

[FR Doc. 2019-12062 Filed 6-6-19; 8:45 am]

BILLING CODE 6560-50-P